NUCLEAR REGULATORY COMMISSION

[NRC-2011-0274]

Biweekly Notice; Applications and Amendments to Facility Operating Licenses Involving No Significant Hazards Considerations

Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from November 3, 2011 to November 16, 2011. The last biweekly notice was published on November 15, 2011 (76 FR 70768).

ADDRESSES: Please include Docket ID NRC-2011-0274 in the subject line of your comments. For additional instructions on submitting comments and instructions on accessing documents related to this action, see “Submitting Comments and Accessing Information” in the SUPPLEMENTARY INFORMATION section of this document. You may submit comments by any one of the following methods:

• Federal Rulemaking Web site: Go to http://www.regulations.gov and search for documents filed under Docket ID NRC-2011-0274. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov.

• Federal Rulemaking Web site: Public comments and supporting materials related to this notice can be found at http://www.regulations.gov by searching on Docket ID NRC-2011-0274.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the NRC's PDR, located at One White Flint North, Public File Area O1F21, 11555 Rockville Pike (first floor), Rockville, Maryland. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by email at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as Social Security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1 F21, 11555 Rockville Pike (first floor), Rockville, Maryland. Publicly available documents created or received at the NRC are accessible electronically through ADAMS in the NRC Library at http://www.nrc.gov/reading-rm/adams.html. Persons who do not have access to ADAMS or who encounter problems in accessing the documents located in ADAMS, should contact the NRC PDR Reference staff at 1-(800) 397-4209, (301) 415-4737, or by email to pdr.resource@nrc.gov.

Calvert Cliffs Nuclear Power Plant, LLC, Docket Nos. 50-317 and 50-318, Calvert Cliffs Nuclear Power Plant, Unit Nos. 1 and 2, Calvert County, Maryland;

Date of amendment request: August 8, 2011.

Description of amendment request: The amendment would modify Technical Specification 3.8.1, “AC Sources—Operating,” Surveillance Requirement (SR) 3.8.1.11 by revising the required power factor value to be achieved by the diesel generators (DGs) during conduct of the surveillance test. The proposed change would also modify the existing note in SR 3.8.1.11 to address offsite power grid conditions that could exist during surveillance testing.

Basis for proposed no significant hazards consideration determination: As required by 10 CFR 50.91(a), the licensee has provided its analysis of the issue of no significant hazards consideration, which is presented below:

1. Does the proposed amendment involve a significant increase in the probability or consequences of an accident previously evaluated?

No.

The first part of the proposed change to SR 3.8.1.11 corrects the current non-conservative DG power factor value and aligns it with the power factor value calculated in the design basis calculation for the worst case design basis accident electrical loads. This part of the proposed change does not affect any analyzed accident initiators, nor does it affect the units' ability to successfully respond to any previously evaluated accident. Testing at a more conservative power factor value better demonstrates the DG's ability to handle expected electrical loads during worst case design basis accidents. In addition, this part of the proposed change does not alter any existing radiological assumptions used in the accident evaluations nor does it change the operation or maintenance performed on operating equipment.

The second part of the proposed change modifies an existing note in SR 3.8.1.11 to allow the required DG power factor not to be achieved during testing when certain grid conditions exist. This exception exists to prevent testing the DG in a condition that might do damage to the DG or cause bus voltage to exceed voltage limits. This proposed change does not affect any analyzed accident initiators, nor does it affect the units' ability to successfully respond to any previously evaluated accident. Additionally there is no affect on any existing radiological assumptions used in the accident evaluations nor does it change the operation or maintenance performed on operating equipment.

Therefore, the proposed change does not involve a significant increase in the probability or consequences of an accident previously evaluated.

2. Does the proposed amendment create the possibility of a new or different kind of accident from any accident previously evaluated?

No.

The first part of the proposed change to SR 3.8.1.11 corrects the current non-conservative DG power factor value and aligns it with the power factor value calculated in the design basis calculation for the worst case design basis accident electrical loads. Testing to a more conservative power factor better demonstrates the DG ability to handle expected electrical loads during worst case design basis accidents. This part of the proposed change does not involve a modification to the physical configuration of the units nor does it involve any change in the methods governing normal plant operation. The proposed change does not impose any new or different requirements that would introduce a new accident initiator, accident precursor, or malfunction mechanism. Additionally there is no change in the types of, or increase in the amounts of, any effluent that may be released offsite and there is no increase in individual or cumulative occupational exposure as a result of this proposed change. As such, this part of the proposed change does not introduce a mechanism for initiating a new or different accident than those previously analyzed.

The second part of the proposed change modifies an existing note in SR 3.8.1.11 to allow the required DG power factor not to be achieved during testing when certain grid conditions exist. This exception exists to prevent testing the DG in a condition that might do damage to the DG or cause bus voltage to exceed voltage limits. This part of the proposed change does not involve a modification to the physical configuration of the units nor does it involve any change in the methods governing normal plant operation. The proposed change does not impose any new or different requirements that would introduce a new accident initiator, accident precursor, or malfunction mechanism. Additionally there is no change in the types or increase in the amounts of any effluent that may be released offsite and there is no increase in the individual or cumulative occupational exposure as a result of this proposed change. As such, this part of the proposed change does not introduce a mechanism for initiating a new or different accident than those previously analyzed.

Therefore, the proposed change does not create the possibility of a new or different kind of accident from any accident previously evaluated.

3. Does the proposed amendment involve a significant reduction in a margin of safety?

No.

The first part of the proposed change to SR 3.8.1.11 corrects the current non-conservative DG power factor value and aligns it with the power factor value calculated in the design basis calculation for the worst-case design basis accident electrical loads. Testing to a more conservative power factor more fully demonstrates the DG ability to handle expected electrical loads during worst case design basis accidents. This part of the proposed change does not involve any modification to the physical configuration of the operating units and does not alter equipment operation. As such the safety functions of plant equipment and their response to any analyzed accident scenario are unaffected by this proposed change and thus there is no reduction in any margin of safety.

The second part of the proposed change modifies an existing note in SR 3.8.1.11 to allow the required DG power factor not to be achieved during testing when certain grid conditions exist. This exception exists to prevent testing the DG in a condition that might do damage to the DG or cause bus voltage to exceed voltage limits. This part of the proposed change does not involve any modification to the physical configuration of the operating units and does not alter equipment operation. As such the safety functions of plant equipment and their response to any analyzed accident scenario are unaffected by this proposed change and thus there is no reduction in any margin of safety.

Therefore, the proposed change does not involve a significant reduction in the margin of safety for the operation of each unit.

The NRC staff has reviewed the licensee's analysis and, based on this review, it appears that the three standards of 10 CFR 50.92(c) are satisfied. Therefore, the NRC staff proposes to determine that the amendments request involves no significant hazards consideration. Attorney for licensee: Carey Fleming, Sr. Counsel—Nuclear Generation, Constellation Generation Group, LLC, 750 East Pratt Street, 17th floor, Baltimore, MD 21202; NRC Branch Chief: Nancy L. Salgado.

Dominion Nuclear Connecticut, Inc., Docket No. 50-336, Millstone Power Station, Unit No. 2, New London County, Connecticut.

Date of amendment request: September 21, 2011.

Description of amendment request: The proposed amendment would revise the Millstone Power Station, Unit No. 2 (MPS2) Technical Specification (TS) surveillance requirements for snubbers to conform to the revised MPS2 inservice inspection (ISI) program, move the specific surveillance requirements of TS 3/4.7.8, “Snubbers,” to the “Snubber Examination, Testing, and Service Life Monitoring Program,” add a reference to the program in the administrative controls section of the MPS2 TSs, and make administrative changes to TS 3/4.7.8.

Basis for proposed no significant hazards consideration determination: As required by Title 10 of the Code of Federal Regulations (10 CFR) part 50, Section 50.91(a), the licensee has provided its analysis of the issue of no significant hazards consideration, which is presented below:

Criterion 1

Will operation of the facility in accordance with the proposed change involve a significant increase in the probability or consequences of an accident previously evaluated?

Response: No.

The proposed changes would revise SR [surveillance requirement] 4.7.8 to conform the TSs to the revised ISI program for snubbers. Snubber examination, testing and service life monitoring will continue to meet the requirements of 10 CFR 50.55a(g) except where the NRC [Nuclear Regulatory Commission] has granted specific written relief, pursuant to 10 CFR 50.55a(g)(6)(i), or authorized alternatives pursuant to 10 CFR 50.55a(a)(3).

Snubber examination, testing and service life monitoring is not an initiator of any accident previously evaluated. Therefore, the probability of an accident previously evaluated is not significantly increased.

Snubbers will continue to be demonstrated OPERABLE by performance of a program for examination, testing and service life monitoring in compliance with 10 CFR 50.55a or authorized alternatives. The proposed change to TS ACTION 3.7.8 for inoperable snubbers is administrative in nature and is required for consistency with the proposed change to SR 4.7.8. Therefore, the proposed change does not adversely affect plant operations, design functions or analyses that verify the capability of systems, structures, and components to perform their design functions. The consequences of accidents previously evaluated are not significantly increased.

Therefore, the proposed changes do not involve a significant increase in the probability or consequences of an accident previously evaluated.

Criterion 2

Will operation of the facility in accordance with this proposed change create the possibility of a new or different kind of accident from any accident previously evaluated?

Response: No.

The proposed changes do not involve any physical alteration of plant equipment. The proposed changes do not change the method by which any safety-related system performs its function. As such, no new or different types of equipment will be installed, and the basic operation of installed equipment is unchanged. The methods governing plant operation and testing remain consistent with current safety analysis assumptions.

Therefore, the proposed changes do not create the possibility of a new or different kind of accident from any previously evaluated.

Criterion 3

Will operation of the facility in accordance with this proposed change involve a significant reduction in the margin of safety?

Response: No.

The proposed changes ensure snubber examination, testing and service life monitoring will continue to meet the requirements of 10 CFR 50.55a(g) except where the NRC has granted specific written relief, pursuant to 10 CFR 50.55a(g)(6)(i), or authorized alternatives pursuant to 10 CFR 50.55a(a)(3). Snubbers will continue to be demonstrated OPERABLE by performance of a program for examination, testing and service life monitoring in compliance with 10 CFR 50.55a or authorized alternatives. The proposed change to TS ACTION 3.7.8 for inoperable snubbers is administrative in nature and is required for consistency with the proposed change to SR 4.7.8.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219; NRC Branch Chief: Harold K. Chernoff.

Indiana Michigan Power Company (the licensee), Docket No. 50-316, Donald C. Cook Nuclear Plant, Unit 2 (DCCNP-2), Berrien County, Michigan;

Date of amendment request: September 29, 2011.

Description of amendment request: The proposed amendment would revise Technical Specification (TS) 4.2.1, adding Optimized ZIRLO™ fuel rods to the fuel matrix in addition to Zircaloy or ZIRLO™ fuel rods that are currently in use. The proposed amendment would also add a Westinghouse topical report regarding Optimized ZIRLO™ as reference 8 in TS 5.6.5.b, which lists the analytical methods used to determine the core operating limits.

Basis for proposed no significant hazards consideration determination: As required by 10 CFR 50.91(a), the licensee has provided its analysis of the issue of no significant hazards consideration, which is presented below:

1. Does the proposed change involve a significant increase in the probability or consequences of an accident previously evaluated?

Response: No.

The proposed change would allow the use of Optimized ZIRLO™ clad nuclear fuel in the reactors. The NRC[-]approved topical report WCAP-12610-P-A and CENPD-404-P-A, Addendum 1-A “Optimized ZIRLO™,” prepared by Westinghouse Electric Company LLC (Westinghouse), addresses Optimized ZIRLO™ and demonstrates that Optimized ZIRLO™ has essentially the same properties as currently licensed ZIRLO™. The fuel cladding itself is not an accident initiator and does not affect accident probability. Use of Optimized ZIRLO™ fuel cladding has been shown to meet all 10 CFR 50.46 acceptance criteria and, therefore, will not increase the consequences of an accident.

Therefore, the proposed change does not involve a significant increase in the probability or consequences of an accident previously evaluated.

2. Does the proposed change create the possibility of a new or different kind of accident from any accident previously evaluated?

Response: No.

Use of Optimized ZIRLO™ clad fuel will not result in changes in the operation or configuration of the facility. Topical Report WCAP-12610-P-A and CENPD-404-P-A demonstrated that the material properties of Optimized ZIRLO™ are similar to those of standard ZIRLO™. Therefore, Optimized ZIRLO™ fuel rod cladding will perform similarly to those fabricated from standard ZIRLO™, thus precluding the possibility of the fuel becoming an accident initiator and causing a new or different type of accident.

Therefore, the proposed change does not create the possibility of a new or different kind of accident from any previously evaluated.

3. Does the proposed change involve a significant reduction in a margin of safety?

Response: No.

The proposed change will not involve a significant reduction in the margin of safety because it has been demonstrated that the material properties of the Optimized ZIRLO™ are not significantly different from those of standard ZIRLO™. Optimized ZIRLO™ is expected to perform similarly to standard ZIRLO™ for all normal operating and accident scenarios, including both loss of coolant accident (LOCA) and non-LOCA scenarios. For LOCA scenarios, where the slight difference in Optimized ZIRLO™ material properties relative to standard ZIRLO™ could have some impact on the overall accident scenario, plant-specific LOCA analyses using Optimized ZIRLO™ properties will be performed prior to the use of fuel assemblies with fuel rods containing Optimized ZIRLO™. These LOCA analyses will demonstrate that the acceptance criteria of 10 CFR 50.46 will be satisfied when Optimized ZIRLO™ fuel rod cladding is implemented.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: James M. Petro, Jr., Senior Nuclear Counsel, Indiana Michigan Power Company, One Cook Place, Bridgman, MI 49106.

NRC Acting Branch Chief: Thomas J. Wengert.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available documents created or received at the NRC are accessible electronically through the Agencywide Documents Access and Management System (ADAMS) in the NRC Library at http://www.nrc.gov/reading-rm/adams.html. If you do not have access to ADAMS or if there are problems in accessing the documents located in ADAMS, contact the PDR Reference staff at 1-(800) 397-4209, (301) 415-4737 or by email to pdr.resource@nrc.gov.

Entergy Nuclear Vermont Yankee, LLC and Entergy Nuclear Operations, Inc., Docket No. 50-271, Vermont Yankee Nuclear Power Station, Vernon, Vermont;

Date of amendment request: December 21, 2010 as supplemented by letter dated May 16, 2011.

Description of amendment request: The amendment would revise Technical Specifications Section 3.6.A “Pressure and Temperature Limitation” to reflect the pressure and temperature limits for the reactor coolant system through, approximately the end of the prospective 20-year renewed license period, depending on the plant capacity factor.

Date of Issuance: November 4, 2011.

Effective date: As of the date of issuance, and shall be implemented within 60 days.

Amendment No.: 250.

Facility Operating License No. DPR-28: Amendment revised the License and Technical Specifications.

Date of initial notice in Federal Register: February 22, 2011 (76 FR 9823). The supplemental letter dated May 16, 2011, provided additional information that clarified the application, did not expand the scope of the application as originally noticed, and did not change the staff's original proposed no significant hazards consideration determination. The Commision's related evaluation of this amendment is contained in a Safety Evaluation dated dated November 4, 2011. No significant hazards consideration comments received: No.

Entergy Operations, Inc., Docket No. 50-313, Arkansas Nuclear One, Unit No. 1, Pope County, Arkansas;

Date of amendment request: April 29, 2011.

Brief description of amendment: The amendment revised Technical Specification (TS) 3.4.15, “RCS [Reactor Coolant System] Leakage Detection Instrumentation,” to define a new time limit for restoring inoperable RCS leakage detection instrumentation to operable status; establish alternate methods of monitoring RCS leakage when one or more required monitors are inoperable; and make TS Bases changes which reflect the proposed changes and more accurately reflect the contents of the facility design basis related to operability of the RCS leakage detection instrumentation. The changes are consistent with NRC-approved Revision 3 to Technical Specification Task Force (TSTF) Standard Technical Specification Change Traveler TSTF-513, “Revise PWR Operability Requirements and Actions for RCS Leakage Instrumentation.”

Date of issuance: November 16, 2011.

Effective date: As of the date of issuance and shall be implemented within 90 days from the date of issuance.

Amendment No.: 246.

Renewed Facility Operating License No. DPR-51: Amendment revised the Technical Specifications/license.

Date of initial notice in Federal Register: September 6, 2011 (76 FR 55128).

The Commission's related evaluation of the amendment is contained in a Safety Evaluation dated November 16, 2011. No significant hazards consideration comments received: No.

Indiana Michigan Power Company, Docket Nos. 50-315 and 50-316, Donald C. Cook Nuclear Plant, Units 1 and 2, Berrien County, Michigan;

Date of application for amendment: May 3, 2011.

Brief description of amendment: The amendment revises Technical Specifications Section 3.4.15 regarding reactor coolant leakage detection instrumentation to be consistent with Revision 3 of Technical Specification Task Force (TSTF) Standard Technical Specification Change Traveler, TSTF-513, “Revise PWR [Pressurized Water Reactor] Operability Requirements and Actions for RCS [Reactor Coolant System] Leakage Instrumentation.”

Date of issuance: November 1, 2011.

Effective date: As of the date of issuance and shall be implemented within 90 days from the date of issuance.

Amendment No.: 317 (for Unit 1) and 300 (for Unit 2).

Facility Operating License Nos. DPR-58 and DPR-74: Amendments revised the Renewed Operating License and Technical Specifications.

Date of initial notice in Federal Register: June 14, 2011 (76 FR 34768).

The Commission's related evaluation of the amendment is contained in a Safety Evaluation dated November 1, 2011.

No significant hazards consideration comments received: No.

Indiana Michigan Power Company, Docket Nos. 50-315 and 50-316, Donald C. Cook Nuclear Plant, Units 1 and 2, Berrien County, Michigan;

Date of application for amendment: March 18, 2011.

Brief description of amendment: The amendment revises the Technical Specifications (TS) in accordance with the previously approved Technical Specification Task Force (TSTF) Change Traveler TSTF-491. Specifically the amendment changes Surveillance Requirements 3.7.2.1, 3.7.3.1, and 3.7.3.2 by relocating the closure times for the Steam Generator Stop Valves, Main Feed Isolation Valves, and Main Feed Regulation Valves from the TS to the licensee-controlled TS Bases document.

Date of issuance: November 3, 2011.

Effective date: As of the date of issuance and shall be implemented within 120 days from the date of issuance.

Amendment Nos.: 318 (for Unit 1) and 301 (for Unit 2).

Facility Operating License Nos. DPR-58 and DPR-74: Amendments revised the Renewed Operating License and Technical Specifications.

Date of initial notice in Federal Register: May 17, 2011 (76 FR 28474).

The Commission's related evaluation of the amendment is contained in a Safety Evaluation dated November 3, 2011.

No significant hazards consideration comments received: No.

Southern Nuclear Operating Company, Inc., Docket Nos. 50-424 and 50-425, Vogtle Electric Generating Plant, Units 1 and 2, Burke County, Georgia;

Date of application for amendments: March 14, 2011

Brief description of amendments: The amendments revised the Technical Specifications (TS) “RHR and Coolant Circulation-Low Water Level,” to allow one RHR loop to be operable for up to 2 hours for surveillance testing provided the other RHR loop is operable and in operation. This revision is consistent with the Industry/Technical Specification Task Force (TSTF) Standard Technical Specification Traveler TSTF-361-A, Revision 2, “Allow standby SDC [shutdown cooling]/RHR[residual heat removal]/DHR [decay heat removal] loop to inoperable to support testing.”

Date of issuance: November 9, 2011.

Effective date: As of the date of issuance and shall be implemented within 60 days from the date of issuance.

Amendment Nos.: 163/145.

Facility Operating License Nos. NPF-68 and NPF-81: Amendments revised the licenses and the technical specifications.

Date of initial notice in Federal Register: May 17, 2011 (76 FR 28476).

The Commission's related evaluation of the amendments is contained in a Safety Evaluation dated November 9, 2011.

No significant hazards consideration comments received: No.

Southern Nuclear Operating Company, Inc., Docket Nos. 50-424 and 50-425, Vogtle Electric Generating Plant, Units 1 and 2, Burke County, Georgia;

Date of application for amendments: April 29, 2011

Brief description of amendments: The amendments revised the Technical Specifications (TSs) “RCS [reactor coolant system] Leakage Detection Instrumentation,” to define a new time limit for restoring inoperable RCS leakage detection instrument to operable status and establish alternate methods of monitoring RCS leakage when one or more required monitors are inoperable. This revision is consistent with the Industry/Technical Specification Task Force (TSTF) standard technical specification traveler TSTF-513-A, “Revise PWR [pressurized water reactor] Operability Requirements and Actions for RCS Leakage [Detection] Instrumentation.”

Date of issuance: November 10, 2011.

Effective date: As of the date of issuance and shall be implemented within 60 days from the date of issuance.

Amendment Nos.: 164/146.

Facility Operating License Nos. NPF-68 and NPF-81: Amendments revised the licenses and the technical specifications.

Date of initial notice in Federal Register: June 14, 2011 (76 FR 34768).

The Commission's related evaluation of the amendments is contained in a Safety Evaluation dated November 10, 2011.

No significant hazards consideration comments received: No.

For the Nuclear Regulatory Commission.
Dated at Rockville, Maryland, this 17th day of November 2011.
Michele G. Evans,
Director, Division of Operating Reactor Licensing, Office of Nuclear Reactor Regulation.

[FR Doc. 2011-30525 Filed 11-28-11; 8:45 am]

BILLING CODE 7590-01-P